DEPARTMENT OF LABOR

Employment and Training Administration

[TA-W-52,959]

Maxxim Medical, Inc., Honea Path, SC; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance, and under Section 246 of the Trade Act of 1974 (26 U.S.C. 2813), a Negative Determination Regarding Eligibility to Apply for Alternative Trade Adjustment Assistance on October 14, 2003, applicable to workers of Maxxim Medical, Inc., Honea Path, South Carolina. The notice will be published soon in the Federal Register.

At the request of a company official, the Department reviewed the certification for workers of the subject firm. The workers are engaged in the production of surgical gloves.

Company information received during the Department's investigation stated that workers engaged in the production of surgical gloves at the plant possess skills that are easily transferable. New information provided by the company states that workers at the subject firm require skills that are unique to the surgeon glove manufacturing process. Therefore, workers' skills are not easily transferable.

Review of this information shows that all eligibility criteria under Section 246 of the Trade Act of 1974 (26 U.S.C. 2813), as amended have been met.

The amended notice applicable to TA-W-52,959 is hereby issued as follows:

All workers of Maxxim Medical, Inc., Honea Path, South Carolina, who became totally or partially separated from employment on or after September 19, 2002 through October 14, 2005, are eligible to apply for adjustment assistance under Section 223 of the Trade Act of 1974 and are also eligible to apply for alternative trade adjustment assistance under Section 246 of the Trade Act of 1974.

Signed at Washington, DC, this 6th day of November, 2003.
Linda G. Poole,
Certifying Officer, Division of Trade Adjustment Assistance.

[FR Doc. 03-29545 Filed 11-25-03; 8:45 am]

BILLING CODE 4510-30-P